DEPARTMENT OF AGRICULTURE

Forest Service

Salmon-Challis National Forest, ID; Forestwide Invasive Plant Treatment Environmental Impact Statement

AGENCY: Forest Service, USDA.

ACTION: Notice of intent to prepare an environmental impact statement.

SUMMARY: Invasive plants have been identified as a major threat to the biological diversity and ecological integrity within and outside the Salmon-Challis National Forest. Invasive plants create many adverse environmental effects, including, but not limited to: Displacement of native plants; reduction in functionality of habitat and forage for wildlife and livestock; threats to populations of threatened, endangered and sensitive species; alteration of physical and biological properties of soil, including productivity; changes to the intensity and frequency of fires; and loss of recreational opportunities.

Within the 3,108,904 acres of the of the Salmon-Challis National Forest outside of the Frank Church River of No Return Wilderness, approximately 65,000 acres are identified as being infested with invasive, non-native, and/or State-listed noxious weeds. These invasive plant infestations have a high potential to expand on lands within and adjacent to the Salmon-Challis National Forest, degrading desired plant communities and the values provided by those communities. Forest lands are also threatened by “potential invaders,” invasive plants that have not been found on the Salmon-Challis National Forest but are known to occur in adjacent lands, counties, or states. Infestations can be prevented, eliminated, or controlled through the use of specific management practices. A clear and comprehensive integrated invasive plant management strategy would allow for the implementation of timely and effective invasive plant management and prevention for projects and programs on the Salmon-Challis National Forest. In the absence of an aggressive invasive plant management program, the number, density, and distribution of invasive plants on the Forest will continue to increase.

DATES: Comments concerning the scope of the analysis must be received by August 8, 2011. The draft environmental impact statement is expected in August, 2012 and the final environmental impact statement is expected in September, 2013.

ADDRESSES: Send written comments to Salmon-Challis National Forest, Attn: Invasive Plant Treatment EIS, H/C 63 Box 1669, Challis, ID 83226. Comments may also be sent via e-mail to comments-intermtn-salmon-challis@fs.fed.us, or via facsimile to (208) 875-4199.

FOR FURTHER INFORMATION CONTACT: Jennifer Purvine, Interdisciplinary Team Leader, c/o Challis-YankeeFork RD, H/C 63 Box 1669, Challis, ID 83226 or by phone at (208) 879-4162.

Individuals who use telecommunication devices for the deaf (TDD) may call the Federal Information Relay Service (FIRS) at 1-800-877-8339 between 8 a.m. and 8 p.m., Eastern Time, Monday through Friday.

SUPPLEMENTARY INFORMATION:

Purpose and Need for Action

The overall purpose of the proposed action is to reduce the negative effects of invasive plants on the structure and function of native plant communities and on other natural resource values that can otherwise be adversely impacted by invasive plants and to update analysis of the effects of Forestwide integrated invasive plant management. The proposal is in response to an underlying need to implement policy and direction provided at the National, Regional, State, and Forest levels, which includes control and containment of invasive plants on the Salmon-Challis National Forest (Executive Order 13112—Invasive Species, 2004 National Invasive Species Strategy and Implementation Plan, 2008-2012 National Invasive Species Management Plan, 2009 Intermountain Region Invasive Species Management Strategy, 2005 Idaho Strategic Plan for Managing Noxious and Invasive Weeds, 1987 Challis National Forest Land and Resource Management Plan, 1988 Salmon National Forest Land and Resource Management Plan).

The need of the proposed action is multifaceted:

Invasive plants are diminishing the natural resource values of the Forest.

Forest resources are negatively impacted by existing and expanding invasive plant species populations. These species are known to out-compete native plants, which can result in reduced productivity and biodiversity, habitat loss, and associated economic impacts.

There must be a timely response to new infestations, new invasive plant species, and landscape scale disturbances.

On the Salmon-Challis National Forest, landscape level tree mortality and disturbance from insects and wildfires have increased and are likely to continue to increase the potential for invasive plant infestations. The Forest needs the flexibility to treat expanded and/or newly identified infestations in a timely manner. Existing decisions for invasive plant management on the Forest do not address new species or provide priorities for managing new infestations. Updating these decisions would allow the Forest to satisfy the need to incorporate early detection and rapid response into the invasive plant management program.

Existing invasive plant populations on the Salmon-Challis National Forest require active and adaptive management.

Invasive plant infestations already exist throughout the Salmon-Challis National Forest and without management will likely increase in density and distribution. Active and adaptive integrated pest management is necessary to contain invasive plants within existing boundaries, reduce infestation densities, and retard the establishment of new infestations. Control efforts should be focused on infestations that can realize the greatest resource benefits — those with the highest risk of spread, those that have not become established, and those that have the best likelihood of success of control. New analysis and planning is needed to make available the most current tools and guide their best use. Rehabilitation of degraded landscapes can inhibit the spread and establishment of invasive plants.

Appropriate rehabilitation efforts are a critical component of a fully functional invasive plant management program. The goals of rehabilitating degraded areas may include preventing new infestations, preventing the reoccurrence of eradicated infestations, and/or reducing the density and spread of existing infestations. Post-fire rehabilitation efforts may incorporate one or more of the established control techniques outlined in the Proposed Action.

Federal, State, and Forest Service laws, regulation, policy and direction relating to invasive plant management must be implemented and followed.

Implementing invasive species laws and policies requires aggressive invasive plant management. This analysis would identify the strategies that the Salmon-Challis National Forest would use to comply with laws and policies pertaining to invasive plant management.

Proposed Action

The Salmon-Challis National Forest proposes to implement adaptive and integrated invasive plant management on current and potential infested areas outside of the Frank Church-River of No Return Wilderness Area. Management activities would include inventory and assessment designed to support Early Detection Rapid Response, control methods, implementation and effectiveness monitoring, and rehabilitation. Activities would be implemented with partners at the federal, state, and local level where opportunities exist.

To provide for “Early Detection Rapid Response” (EDRR), the Forest would design a plan that allows treatment of invasive plant infestations located outside of currently identified infested areas. Infestations outside of currently identified areas may include new sites that arise in the future, or sites that currently exist, but have not been identified in Forest inventories to date. The intent of EDRR is to allow timely control, so that new infestations can be treated when they are small, preventing establishment and spread, while reducing the costs and potential side effects of treatment.

Proposed control methods would be based on integrated pest management principles and methods known to be effective for each target species. They include, but are not limited to, mechanical techniques, such as mowing and pulling; cultural practices, such as the use of certified noxious weed-free hay; biological control agents, such as pathogens, insects, and controlled grazing; and herbicides that target specific invasive plant species. Control methods could be employed alone or in combination to achieve the most effective control. Treatment methods would be based on the extent, location, type, and character of an infestation and would be implemented using project design features. A maximum of 30,000 acres would be proposed for treatment annually. Management priority would be based on factors such number and size of known infestations, proximity to vectors or susceptible habitat, and ability to outcompete desirable plant species. The priority of species to be treated would vary based on these factors and could change over time. These priorities would be used to guide selection of specific management activities for particular infestations.

Rehabilitation activities would be designed and implemented based on the conditions found in and around infested areas. Both active and passive (allowing plants on site to fill in a treated area) revegetation would be considered. Rehabilitation techniques would be assessed and implemented in order to promote native plant communities that are resistant to infestation by invasive plants.

Responsible Official

Forest Supervisor, Salmon-Challis National Forest, 1206 S. Challis St., Salmon, Idaho 83467.

Nature of Decision To Be Made

The Forest Supervisor will decide whether or not to treat invasive plants on the Salmon-Challis National Forest, outside the Frank Church River of No Return Wilderness, and if so, what methods, how much treatment and what strategies (including adaptive management and EDRR) will be used to contain, control, or eradicate invasive plants.

Scoping Process

This notice of intent initiates the scoping process, which guides the development of the environmental impact statement. Comments that would be most useful are those concerning developing or refining the proposed action, in particular are site specific concerns and those that can help us develop treatments that would be responsive to our goal to control, contain, or eradicate invasive plants. It is important that reviewers provide their comments at such times and in such manner that they are useful to the agency's preparation of the environmental impact statement. Therefore, comments should be provided prior to the close of the comment period and should clearly articulate the reviewer's concerns and contentions. Public meetings are anticipated to be held following publication of the Draft Environmental Impact Statement.

Comments received in response to this solicitation, including names and addresses of those who comment, will be part of the public record for this proposed action. Comments submitted anonymously will be accepted and considered; however, anonymous comments will not provide the Agency with the ability to provide the respondent with subsequent environmental documents.

Dated: June 15, 2011.
Lyle E. Powers,
Acting Forest Supervisor.

[FR Doc. 2011-15582 Filed 6-22-11; 8:45 am]

BILLING CODE 3410-11-M